DEPARTMENT OF STATE

[Public Notice 8320]

Issuance of an Amendment to the Presidential Permit for the City of Eagle Pass International Bridge Board Regarding the Port of Entry Known as Eagle Pass II

SUMMARY: The Department of State issued an amendment to the Presidential Permit to the City of Eagle Pass International Bridge Board on May 2, 2013, eliminating the requirement that it provide land to the federal government free of charge, so that it may begin to collect payment for the use of the bridge's temporary inspection facilities located on land leased to the federal government if certain conditions in the permit are satisfied. In making this determination, the Department provided public notice of the proposed amendment (75 FR 39089, July 10, 2010), offered the opportunity for comment and consulted with other federal agencies, as required by Executive Order 11423, as amended.

FOR FURTHER INFORMATION CONTACT: Peter Marigliano, Mexico Border Affairs Officer, via email at WHA-BorderAffairs@state.gov, by phone at 202-647-9895 or by mail at Office of Mexican Affairs—Room 1329, Department of State, 2201 C St. NW., Washington, DC 20520. Information about Presidential permits is available on the Internet at http://www.state.gov/p/wha/rt/permit/.

SUPPLEMENTARY INFORMATION: The following is the text of the issued permit amendment:

By virtue of the authority vested in me as Under Secretary of State for Economic Growth, Energy and the Environment, including those authorities under Executive Order 11423, 33 FR 11741, as amended by Executive Order 12847 of May 17, 1993, 58 FR 29511, Executive Order 13284 of January 23, 2003, 68 FR 4075, and Executive Order 13337 of April 30, 2004, 69 FR 25299; and Department of State Delegation of Authority 118-2 of January 26, 2006; I hereby amend as set forth herein the permission granted in Presidential Permit Number 96-01, signed on April 12, 1996, to the City of Eagle Pass International Bridge Board (hereinafter referred to as “permittee”) to construct, connect, operate, and maintain a new international vehicular and pedestrian bridge between the City of Eagle Pass, Maverick County, Texas and Piedras Negras, Coahuila, Mexico, at about mile 495.71 on the Rio Grande.

* * * * *

1. Article 10 of the Presidential Permit Number 96-01, signed on April 12, 1996, is amended and replaced in its entirety with the following provisions:

Article 10. (1) The permittee shall provide to the General Services Administration (GSA) for the use and benefit of the United States Customs and Border Protection (CBP) and to other Federal Inspection Agencies, as appropriate, temporary inspectional facilities, at a mutually agreed upon site that are adequate and acceptable to the Federal Inspection Agencies. In providing the inspection facilities, including selection of the site, the permittee shall fully comply with all National Environmental Policy Act and National Historic Preservation Act mitigation provisions and stipulations.

(2) The permittee shall negotiate with the GSA agreements to provide the inspection facilities with such terms, conditions, covenants, and agreements mutually acceptable to the parties covering the following matters:

(i) An agreement providing for payment retroactively to July 11, 2010, until the Closing Date described in Article 10(2) (ii) for the use of all of the inspection facilities;

(ii) A Donation Agreement and Special Warranty Deed between permittee and GSA conveying a portion of the inspection facilities in fee simple to the United States of America, in satisfaction of the permittee's obligations under Article 14 of this Presidential Permit, which conveyance shall take place on or before May 31, 2013 (the “Closing Date”); and,

(iii) a lease agreement covering all remaining real property comprising the inspection facilities not covered by the Donation Agreement and the Special Warranty Deed, commencing on the Closing Date.

2. If for any reason permittee and GSA fail to execute and deliver any of the instruments called for under the amended Article 10(2), above, by the Closing Date, the amendment to Article 10 shall be null and void, and permittee shall continue to provide to the CBP and to other Federal Inspection Agencies, as appropriate, the inspection facilities at no cost to the Federal Government in accordance with the provisions of the original Presidential Permit.

3. Aside from the amendments to Article 10 detailed above, Presidential Permit Number 96-01, signed on April 12, 1996, remains unaltered and in effect.

IN WITNESS WHEREOF, I, Robert D. Hormats, Under Secretary of State for Economic Growth, Energy and the Environment, have hereunto set my hand this 2nd day of May, 2013 in the City of Washington, District of Columbia.

Robert D. Hormats,

Under Secretary of State for Economic Growth, Energy and the Environment.

Kevin M. O'Reilly,
Director, Office of Mexican Affairs, Bureau of Western Hemisphere Affairs, U.S. Department of State.

[FR Doc. 2013-11277 Filed 5-10-13; 8:45 am]

BILLING CODE 4710-29-P